DEPARTMENT OF AGRICULTURE

Performance Review Board Membership

AGENCY: Departmental Administration, USDA.

ACTION: Notice of Performance Review Board appointments.

SUMMARY: This notice announces the members of the Senior Executive Service (SES) and Senior Level (SL) and Scientific and Professional (ST) Performance Review Boards (PRB). Agriculture has two PRBs with representatives from each USDA Mission Area. The PRBs are comprised of the Chairpersons and a mix of career and noncareer senior executives and senior professionals that meet annually to review and evaluate performance appraisal documents. The PRB provides a written recommendation to the Secretary for final approval of each executive's performance rating, performance-based pay adjustment, and performance award. The PRBs are advised by the Office of Human Resources Management, Office of General Counsel, and Office of the Assistant Secretary for Civil Rights to ensure compliance with laws and regulations.

DATES: The board membership is applicable beginning on October 23, 2023.

FOR FURTHER INFORMATION CONTACT: Michelle Long, Acting Deputy Chief Human Capital Officer, Office of Human Resources Management, telephone: (202) 941-4075, or Rhonda C. Carr, Director, Human Resources Operations Division, telephone: (202) 720-3967.

SUPPLEMENTARY INFORMATION:

Membership

In accordance with 5 U.S.C. 4314(c)(4), the USDA Performance Review Board members are named below:

BAILEY, MELISSA

BENDER, STUART

BENNETT PATRICIA

BUCKNALL, JANET

CROCKETT, JOHN

EICHHORST, JOHN

ERHAN, SEVIM

FANTINATO, JESSICA

FRENCH, GERALDINE

HAMER, HUBERT

HEATH, LINDA

JACKSON, KIMBERLY

JAMES, ROSALIND

MANZANO, HEATHER

MCCROSSON, TIMOTHY

MCHUGH, TARA

MOORE, MELISSA

NEAL, ARTHUR

NICKERSON, CYNTHIA

PARK, JOON

PARSONS, JOSEPH

RAMIREZ, LISA

RATER, BARBARA

RIPLEY, INGRID

SHEA, JOHN

SLUPEK, MARK

SMITH, GREGORY

THARP, MELISSA

TUCKER, JENNIFER

WATSON, MICHAEL

WHITLEY, DANIEL

WILLIAMS, DUANE

XU, WEIHUAN

The Secretary of Agriculture, Thomas J. Vilsack, having reviewed and approved this document, is delegating the authority to electronically sign this document to Anita Adkins, Chief Human Capital Officer, for purposes of publication in the Federal Register.

Michelle Long,
Acting Deputy Chief Human Capital Officer.

[FR Doc. 2023-23622 Filed 10-25-23; 8:45 am]

BILLING CODE 3410-96-P